Title 3—

The President

Memorandum of January 15, 2013

Delegation of Certain Functions Under Section 6 of Public Law 112-150

Memorandum for the Secretary of State

By the authority vested in me as President by the Constitution and the laws of the United States of America, including section 301 of title 3, United States Code, I hereby delegate to you all functions conferred upon the President by subsections (a) and (b) of section 6 of Public Law 112-150. You will exercise these functions in coordination with the Secretary of Defense.

You are authorized and directed to publish this memorandum in the Federal Register.

THE WHITE HOUSE,

Washington, January 15, 2013

[FR Doc. 2013-01804

Filed 1-24-13; 11:15 am]

Billing code 4710-10